DEPARTMENT OF COMMERCE

Patent and Trademark Office

[Docket No. 2003-C-003]

Performance Review Board (PRB)

AGENCY: Patent and Trademark Office, Commerce.

ACTION: Notice; update membership list of the United States Patent and Trademark Office Performance Review Board.

SUMMARY: In conformance with the Civil Service Reform Act of 1978, 5 U.S.C. 4314(c)(4), the United States Patent and Trademark Office announces the appointment of persons to serve as members of its Performance Review Board.

ADDRESSES: Director, Office of Human Resources, United States Patent and Trademark Office, One Crystal Park, Suite 707, Washington, DC 20231.

FOR FURTHER INFORMATION CONTACT: Sydney Rose at (703) 305-8062.

SUPPLEMENTARY INFORMATION: The membership of the United States Patent and Trademark Office Performance Review Board is as follows:

Jonathan Dudas, Chair, Deputy Under Secretary of Commerce for Intellectual Property and Deputy Director of the United States Patent and Trademark Office, Washington, DC 20231, Term expires September 30, 2005.

Nicholas Godici, Commissioner for Patents, United States Patent and Trademark Office, Washington, DC 20231, Term expires September 30, 2003.

Anne Chasser, Commissioner for Trademarks, United States Patent and Trademark Office, Washington, DC 20231, Term expires September 30, 2003.

Douglas Bourgeois, Chief Information Officer, United States Patent and Trademark Office, Washington, DC 20231, Term expires September 30, 2004.

James Toupin, General Counsel, United States Patent and Trademark Office, Washington, DC 20231, Term expires September 30, 2004.

James Taylor, Director, Office of Financial Management and Deputy Chief Financial Officer, Department of Commerce, Washington, DC 20230, Term expires September 30, 2004.

K. David Holmes, Jr., Associate Under Secretary for Inspection, Department of Transportation, Transportation Security Administration, Washington, DC 20590, Term expires September 30, 2004.

Clarence Crawford, Director of the Office of Executive Resources Management, United States Office of Personnel Management, 1900 E Street, NW, Washington, DC 20415, Term Expires September 30, 2003.

Dated: October 31, 2002.
James E. Rogan,
Under Secretary of Commerce for Intellectual Property and, Director of the United States Patent and Trademark Office.

[FR Doc. 02-28189 Filed 11-5-02; 8:45 am]

BILLING CODE 3510-16-P